DEPARTMENT OF COMMERCE

Census Bureau

Service Annual Survey; Proposed Collection; Comment Request

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 6, 2002.

ADDRESSES: Direct all written comments to Madeleine Clayton, Departmental Paperwork Clearance Officer, Department of Commerce, Room 6608, 14th and Constitution Avenue, NW, Washington, DC 20230 (or via e-mail at mclayton@doc.gov).

FOR FURTHER INFORMATION CONTACT: Requests for additional information or copies of the information collection instrument(s) and instructions should be directed to Ruth Bramblett, U.S. Census Bureau, Room 2775-FOB 3, Washington, DC 20233-6500, (301) 457-2766 or via e-mail at ruth.ann.bramblett@census.gov.

SUPPLEMENTARY INFORMATION

I. Abstract

The Service Annual Survey (SAS) provides, for selected service industries, total revenue estimates for taxable firms and total revenue and expense estimates for tax-exempt firms. Selected service industries include professional, scientific and technical services; administrative and support services; health care and social assistance; telecommunications, publishing, broadcasting and other information service industries; trucking, courier and messenger, and warehousing; selected financial services; and arts, entertainment and recreation. These data are needed to provide a sound statistical basis for the formation of policy by various governmental agencies. The Census Bureau is authorized by Title 13, United States Code, to conduct surveys necessary to furnish current data on subjects covered by the major censuses. These surveys provide continuing and timely national statistical data for the period between economic censuses.

The Bureau of Economic Analysis (BEA), the primary Federal user of these annual program statistics, uses the information in developing the national income and product accounts, compiling benchmark and annual input-output tables, and computing Gross Domestic Product (GDP) by industry. Agencies of the U.S. Department of Transportation (DOT) use the data for policy development and program management and evaluation. The Bureau of Labor Statistics (BLS) uses the data as inputs to its Producer Price Indexes and in developing productivity measurements. The Centers for Medicare and Medicaid Services (CMS) uses the data in the development of the National Health Expenditure Accounts. The Federal Communications Commission (FCC) uses the data as a means for assessing FCC policy. The Census Bureau uses the data to provide new insight into changing structural and cost conditions that will impact the planning and design of future economic census questionnaires. Private industry also uses the data as a tool for marketing analysis.

Data are collected from all of the largest firms and from a sample of small- and medium-sized businesses selected using a stratified sampling procedure. The samples are reselected periodically, generally at 5-year intervals. The largest firms continue to be canvassed when the sample is re-drawn, while nearly all of the small- and medium-sized firms from the prior sample are replaced. We collect these data by using a mail-out/mail-back survey questionnaire.

At the present time, we are only requesting an extension for the current Service Annual Survey program. We will not be implementing any new changes for survey year 2002. However, the Service Annual Survey program began testing the North American Product Classification System (NAPCS) for the information sector (NAICS 51, except 512) and computer system services group (NAICS 5415) for survey year 2001 and we plan to expand coverage of NAPCS to the following subsectors for survey year 2003: Professional, Scientific and Technical Services (NAICS 541); Administrative Support Services (NAICS 561) and Waste Management and Remediation Services (NAICS 562). In subsequent survey years, we intend to expand product lines to additional industries covered by SAS.

NAPCS was developed jointly by the statistical agencies in the United States, Canada, and Mexico to systematically identify and define the products of the service industries. The comprehensive demand-oriented product classification system will complement the supply-oriented North American Industry Classification System (NAICS) introduced in 1997. APCS was launched as a multi-phase initiative by the three countries on February 2, 1999, and it was announced by the Office of Management and Budget (OMB) in the Federal Register on April 16, 1999. Phase I, an exploratory phase launched in early 1999, targeted the following four NAICS sectors: Information (NAICS 51); Finance and Insurance (NAICS 52); Professional, Scientific, and Technical Services (NAICS 54); and Administrative and Support and Waste Management and Remediation Services (NAICS 56). Phase II, launched in July 2001, extended the product development work to industries in five additional NAICS service sectors: Transportation and Warehousing (NAICS 48 and 49), Educational Services (NAICS 61), Health Care and Social Assistance (NAICS 62), Arts, Entertainment and Recreation (NAICS 71), and Accommodation and Food Services (NAICS 72). Phase III, which is expected to be launched in mid-2003, will seek to complete product development and classification for all NAICS services industries.

Compared to goods-producing industries, there is a serious lack of information about and data for the products produced by the service industries in the U.S. and elsewhere. The collection and dissemination of NAPCS service statistics will provide much needed data for private sector firms, policy analysts and trade negotiators seeking to determine and develop market opportunities and to track industrial performance.

Future initiatives also include the collection of annual data on the cost of selected purchased services and materials in the 2003 Service Annual Survey for the following industries: Information (NAICS 51); Securities, Commodity Contracts, and Other Financial Investments and Related Activities (NAICS 523); Professional, Scientific, and Technical Services (NAICS 541); and Administrative and Support and Waste Management and Remediation Services (NAICS 56). For the 2004 survey, we will begin collecting these data for all remaining industries covered in SAS. Key data items include the cost of purchased telecommunications services, software and data processing services, management and consulting services, fuels, electricity, lease and rental payments, materials and supplies other than for resale, and contract labor. The availability of this data will greatly improve the quality of the intermediate-inputs and value-added estimates in BEA's annual input-output and GDP by industry accounts. Annual data on purchased services and materials will also be used as indicators to update census year data collected on the Business Expenditures Survey.

II. Method of Collection

We collect this information by mail, fax, and telephone follow-up.

III. Data

OMB Number: 0607-0422.

Form Number: The SAS program consists of 58 forms which are too extensive to list here.

Type of Review: Regular Submission.

Affected Public: Businesses or other for-profit organizations, not-for-profit institutions, Government hospitals and Federal Government.

Estimated Number of Respondents: 50,000.

Estimated Time Per Response: On average, we expect 1 hour and 30 minutes as an estimate.

Estimated Total Annual Burden Hours: 61,662 hours.

Estimated Total Annual Cost: The cost to the respondents for fiscal year 2003 is estimated to be $1,289,352 based on the median hourly salary of $20.91 for accountants and auditors. (Occupational Employment Statistics-Bureau of Labor Statistics “2000 National Occupational Employment and Wage Estimates”) http://www.bls.gov/oes/2000/oes132011.htm.

Respondent's Obligation: Mandatory.

Legal Authority: Title 13, United States Code; Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 3, 2002.
Madeleine Clayton,
Departmental Paperwork Clearance Officer, Office of the Chief Information Officer.

[FR Doc. 02-14243 Filed 6-6-02; 8:45 am]

BILLING CODE 3510-07-P